DEPARTMENT OF HEALTH AND HUMAN SERVICES

Administration for Children and Families

Proposed Information Collection Activity; Generic Clearance for the Comprehensive Child Welfare Information System (CCWIS) Review and Technical Assistance Process (New Collection)

AGENCY: Children's Bureau, Administration for Children and Families, HHS.

ACTION: Request for public comment.

SUMMARY: The Children's Bureau (CB), Administration for Children and Families (ACF), U.S. Department of Health and Human Services (HHS), is proposing to establish a generic clearance to collect information to assess regulatory requirements of title IV-E agencies' Comprehensive Child Welfare Information System (CCWIS) and ensure that the CCWIS is utilized for purposes consistent with the efficient, economical, and effective administration of the title IV-B and IV-E plans. The information collected is intended to be used for review and technical assistance processes.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: This initial request is to establish an overarching generic for CCWIS Review and Technical Assistance (TA) information collections and includes six initial TA tools for title IV-E agencies to self-assess their conformity to CCWIS project and design requirements at 45 CFR 1355.52-3. The initial six TA tools include intake, investigation, case management, adoption, foster care and service provider management, and administration.

In the future, ACF will submit under this generic clearance mechanism additional TA tools for title IV-E agencies to self-assess design, data quality, usability, reporting, data exchanges, external systems, eligibility, finance, Child Welfare Contributing Agencies, and other tools, as needed, to assess new child welfare programs and modern system architecture.

The CCWIS requirements at 45 CFR 1355.55 require the review, assessment, and inspection of the planning, design, development, installation, operation, and maintenance of each CCWIS project on a continuing basis. The Advance Planning Document regulations at 45 CFR 95.621 require periodic reviews of state and local agency methods and practices to insure that information systems, including CCWIS, are utilized for purposes consistent with proper and efficient administration.

Respondents: Title IV-E agencies under the Social Security Act.

Annual Burden Estimates
Instrument | Total number of respondents | Total number of responses per respondent | Average burden hours per response | Total burden hours
CCWIS Self-Assessment—Intake | 55 | 1 | 10 | 550
CCWIS Self-Assessment—Investigation | 55 | 1 | 10 | 550
CCWIS Self-Assessment—Case Management | 55 | 1 | 10 | 550
CCWIS Self-Assessment—Adoption | 55 | 1 | 10 | 550
CCWIS Self-Assessment—Foster Care and Service Provider Management | 55 | 1 | 10 | 550
CCWIS Self-Assessment—Administration | 55 | 1 | 10 | 550
Future Tools to be developed | 55 | 10 | 12 | 6,600

Estimated Total Annual Burden Hours: 9,900.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 5 U.S.C. 301; 42 U.S.C. 470, 620 et seq., 622(b), 629b(a), 652(b), 654A, 670 et seq., 671(a), 1302, and 1396a(a))

Mary B. Jones,
ACF/OPRE Certifying Officer.

[FR Doc. 2020-12125 Filed 6-4-20; 8:45 am]

BILLING CODE 4184-25-P